DEPARTMENT OF ENERGY

Federal Energy Regulatory Commission

[Project No. 14378-000]

Green River Energy BFD, LLC; Notice of Preliminary Permit Application Accepted for Filing and Soliciting Comments, Motions To Intervene, and Competing Applications

On March 29, 2012, Green River Energy BFD, LLC filed an application for a preliminary permit, pursuant to section 4(f) of the Federal Power Act (FPA), proposing to study the feasibility of a hydropower project located at the U.S. Army Corps of Engineers' (Corps) Green River Lake Dam, located on the Green River in Taylor County, Kentucky. The sole purpose of a preliminary permit, if issued, is to grant the permit holder priority to file a license application during the permit term. A preliminary permit does not authorize the permit holder to perform any land-disturbing activities or otherwise enter upon lands or waters owned by others without the owners' express permission.

The proposed project would consist of the following: (1) A bifurcation structure constructed at the end of the dam's outlet conduit; (2) a 30-foot-long, 72 inch-diameter steel penstock; (3) a powerhouse containing two turbine/generating units with a total capacity of 3.1 megawatts; (4) a 570-foot-long, 12.7-kilovolt (kV) transmission line. The proposed project would have an average annual generation of 17,651 megawatt-hours (MWh), and operate utilizing surplus water from the Green River Lake Dam, as directed by the Corps.

Applicant Contact: Mr. Mark Boumansour, Green River Energy BFD, LLC, 1035 Pearl Street 4th Floor, Boulder, CO 80302. (720) 295-3317.

FERC Contact: Christiane Casey, christiane.casey@ferc.gov, (202) 502-8577.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14378-000) in the docket number field to access the document. For assistance, contact FERC Online Support.

Dated: April 13, 2012.
Kimberly D. Bose,
Secretary.

[FR Doc. 2012-9649 Filed 4-20-12; 8:45 am]

BILLING CODE 6717-01-P